DEPARTMENT OF HEALTH AND HUMAN SERVICES

Centers for Disease Control and Prevention

[Program Announcement 00093]

States Helping States Through The Association of Food And Drug Officials; Notice of Availability of Funds

A. Purpose

The Centers for Disease Control and Prevention, (CDC) announces the availability of fiscal year (FY) 2000 funds for a cooperative agreement program for States Helping States Through the Association of Food and Drug Officials.

B. Eligible Applicant

Assistance will be provided only to the Association of Food and Drug Officials (AFDO). No other applications are solicited.

AFDO is the only organization qualified to conduct this work because:

1. AFDO is the only organization that represents the state and local food protection regulatory agencies. Regular members are official heads of State or local regulatory agencies or personnel under their supervision. The Association's principle purpose is to act as a leader and resource to state and local regulatory agencies in developing strategies to resolve and promote public health and consumer protection related to the regulation of foods as well as drugs, medical devices and consumer products.

2. AFDO focuses on the administration of the nation's food safety component of public health programs. AFDO has unique perspective on the infrastructure, capacity, strengths and needs of state and local food safety programs.

3. AFDO has experience in carrying out national training efforts that focus on the needs of state and local regulatory agencies.

C. Availability of Funds

Approximately $102,000 is available in FY 2000 to fund this Cooperative Agreement. It is expected that the award will begin on or about September 1, 2000, and will be made for a 12-month budget period within a project period of up to 5 years.

D. Where To Obtain Additional Information

Program technical assistance may be obtained from: Chuck Higgins, Senior Environmental Health Officer, Environmental Health Services Branch, Centers for Disease Control and Prevention, 4770 Buford Highway, NE, Atlanta, GA 30341-3724, Telephone number: (770) 488-4180, Email address: cth4@cdc.gov

Business management technical assistance may be obtained from: Sonia V. Rowell, Grants Management Specialist, Grants Management Branch, Procurement and Grants Office, Centers for Disease Control and Prevention, Room 3000, 2920 Brandywine Road, Atlanta, GA 30341-4146, Telephone number: (770) 488-2724, Email address: svp1@cdc.gov

Dated: May 18, 2000.
John L. Williams,
Director, Procurement and Grants Office, Centers for Disease Control and Prevention (CDC).

[FR Doc. 00-13029 Filed 5-23-00; 8:45 am]

BILLING CODE 4163-18-P